INTERNATIONAL TRADE COMMISSION

[Investigation Nos. 731-TA-1132 and 1134 (Second Review)]

Polyethylene Terephthalate Film, Sheet, and Strip from China and the United Arab

Emirates; Determinations

On the basis of the record ¹ developed in the subject five-year reviews, the United States International Trade Commission (“Commission”) determines, pursuant to the Tariff Act of 1930 (“the Act”), that revocation of the antidumping duty orders on polyethylene terephthalate film, sheet, and strip from China and the United Arab Emirates would be likely to lead to continuation or recurrence of material injury to an industry in the United States within a reasonably foreseeable time.

¹ The record is defined in § 207.2(f) of the Commission's Rules of Practice and Procedure (19 CFR 207.2(f)).

Background

The Commission instituted these reviews on January 2, 2020 (85 FR 114) and determined on April 6, 2020 that it would conduct expedited reviews (85 FR 42916, July 15, 2020).

The Commission made these determinations pursuant to section 751(c) of the Act (19 U.S.C. 1675(c)). It completed and filed its determinations in these reviews on August 26, 2020. The views of the Commission are contained in USITC Publication 5110 (August 2020), entitled Polyethylene Terephthalate Film, Sheet, and Strip from China and the United Arab Emirates: Investigation Nos. 731-TA-1132 and 1134 (Second Review).

By order of the Commission.
Issued: August 26, 2020.
Lisa Barton,
Secretary to the Commission.

[FR Doc. 2020-19194 Filed 8-31-20; 8:45 am]

BILLING CODE 7020-02-P